Title 3—

The President

Proclamation 9651 of October 2, 2017

Honoring the Victims of the Tragedy in Las Vegas, Nevada

By the President of the United States of America

A Proclamation

Our Nation is heartbroken. We mourn with all whose loved ones were murdered and injured in last night's horrible tragedy in Las Vegas, Nevada. As we grieve, we pray that God may provide comfort and relief to all those suffering.

As a mark of respect for the victims of the senseless act of violence perpetrated on October 1, 2017, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions until sunset, October 6, 2017. I also direct that the flag shall be flown at half-staff for the same length of time at all United States embassies, legations, consular offices, and other facilities abroad, including all military facilities and naval vessels and stations.

IN WITNESS WHEREOF, I have hereunto set my hand this second day of October, in the year of our Lord two thousand seventeen, and of the Independence of the United States of America the two hundred and forty-second.

[FR Doc. 2017-21720

Filed 10-4-17; 11:15 am]

Billing code 3295-F7-P